DEPARTMENT OF DEFENSE

Defense Acquisition Regulations System

48 CFR Parts 225 and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective March 26, 2015.

FOR FURTHER INFORMATION CONTACT: Mr. Manuel Quinones, Defense Acquisition Regulations System, OUSD(AT&L)DPAP(DARS), Room 3B941, 3060 Defense Pentagon, Washington, DC 20301-3060. Telephone 571-372-6088; facsimile 571-372-6094.

SUPPLEMENTARY INFORMATION: This final rule amends the DFARS as follows:

1. Amends section 225.103(b)(iii) to remove an obsolete cross reference at paragraph (A) and redesignate paragraphs (B) and (C) as paragraphs (A) and (B), respectively. Amends section 225.202(a)(2) to remove an obsolete cross reference. DFARS case 2013-D020, which was published in the Federal Register at 79 FR 44314 on July 31, 2014, removed an outdated list of nonavailable articles at section 225.104(a). However, the cross references at 225.103(b)(iii)(A) and 225.202(a)(2) to the list at 225.104(a) were not removed.

2. Amends DFARS clause 252.245-7004, Reporting, Reutilization, and Disposal, to update a reference and a link to the reference contained in paragraph (b)(1)(iv).

List of Subjects in 48 CFR Parts 225 and 252

Government procurement.

Manuel Quinones,
Editor, Defense Acquisition Regulations System.

Therefore, 48 CFR parts 225 and 252 are amended as follows:

1. The authority citation for 48 CFR parts 225 and 252 continues to read as follows:

Authority: 41 U.S.C. 1303 and 48 CFR chapter 1.

PART 225—FOREIGN ACQUISITION

225.103 [Amended]

2. Amend section 225.103 by—

a. Removing paragraph (b)(iii)(A); and

b. Redesignating paragraphs (b)(iii)(B) and (C) as paragraphs (b)(iii)(A) and (B), respectively.

225.202 [Amended]

3. Amend section 225.202 by removing “or in 225.104(a)”.

PART 252—SOLICITATION PROVISIONS AND CONTRACT CLAUSES

4. Amend section 252.245-7004 by—

a. Removing the clause date “(MAY 2013)” and adding “(MAR 2015)” in its place; and

b. Revising paragraph (b)(1)(iv).

The revision reads as follows.

252.245-7004 Reporting, Reutilization, and Disposal.

* * * * *

(b) * * *

(1) * * *

(iv) Appropriate Federal Condition Codes. See Appendix 2 of DLM 4000.25-2, Military Standard Transaction Reporting and Accounting Procedures (MILSTRAP) manual, edition in effect as of the date of this contract. Information on Federal Condition Codes can be obtained at http://www2.dla.mil/j-6/dlmso/elibrary/manuals/dlm/dlm_pubs.asp#.

* * * * *

[FR Doc. 2015-06760 Filed 3-25-15; 8:45 am]

BILLING CODE 5001-06-P